DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-42,023; Saturn Electronics and Engineering, Inc., Auburn Hills, MI.

TA-W-41,611; Dean Specialty Foods Group, Atkins, AR.

TA-W-42,299; Alcoa Printing Plant, Gilbertsville, PA.

TA-W-42,050; CommScope, Inc. of North Carolina, Catawba Facility, Catawba, NC, A; Claremont Facility, Claremont, NC, B; Cable Technology Center, Newton, NC, C; Corporate Office, Hickory, NC, D; Denver Sales Office, Greenwood Village, CO.

TA-W-41,788; Johnson Controls, Automotive Systems Group-Interiors, Lapeer, MI.

In the following cases, the investigation revealed that the criteria for eligibility have not been met for the reasons specified.

Increased imports did not contribute importantly to worker separations at the firm.

TA-W-42,007; Milwaukee Valve Company, Milwaukee, WI.

TA-W-42,326; Micro C Technologies, Inc., Grand Rapids, MI.

TA-W-42,262; Pollak, Actuator Products Div., Boston, MA.

TA-W-41,887; Storage Technology Corp., Printed Wire Assembly Workers, Louisville, CO.

The workers firm does not produce an article as required for certification under section 222 of the Trade Act of 1974.

TA-W-42,215; Agilent Technologies, Colorado Springs, CO.

TA-W-50,058; Ely Shoshone Tribe, Small World Daycare, Ely, NE.

TA¹W-42,327; Aspen International Cable Corp., Salem, OR.

TA-W-41,928; Veco Alaska, Inc., Anchorage, AK.

TA-W-42,307; Cadence Design Systems, Inc., Irvine Office, Irvine, CA.

Affirmative Determinations for Worker Adjustment Assistance

The following certifications have been issued; the date following the company name and location of each determination references the impact date for all workers of such determination.

TA-W-50,011; Cooper Power Systems, Cooper Industries, East Stroudsburg, PA: November 4, 2001.

TA-W-42,347; Shur-Line, a Div. of Newell Rubbermaid, Johnson City, TN: October 8, 2001.

TA-W-42,281; Dorel Juvenile Group, Cartersville, GA: October 9, 2001.

TA-W-42,228 & A; Pent Products, Inc., Ardmore, AL and Ashley, IN: September 23, 2001.

TA-W-42,220; Bo-Jan Garment, Inc., Schuylkill Haven, PA: September 19, 2001.

TA-W-42,198; Tritex Sportswear, Inc., Altoona, PA: September 9, 2001.

TA-W-42,184; Graphic Sportswear Unlimited, Austin, TN: September 10, 2001.

TA-W-42,122; Neshoba Lumber Company, Philadelphia, MS: August 28, 2001.

TA-W-42,037; Black Diamond Equipment, Ltd., Sew Plant, Salt Lake City, UT: August 15, 2001.

TA-W-41,964; Donaldson Co., Inc., Baldwin, WI: July 18, 2001.

TA-W-50,118; Volex, Inc., Power Cord Div., Clinton, AR: November 7, 2001.

TA-W-50,028; Tyco Electronics, Winston-Salem, NC: November 5, 2001.

TA-W-42,349; Maxoptix Corp., Peak Storage Solutions Div., Louisville, CO: October 23, 2001.

TA-W-42,348; Lexington Home Brands, Plant 11, Mocksville, NC: October 30, 2001.

TA-W-42,346; Haemer-Wright Tool and Die, Inc., Saegertown, PA: July 22, 2001.

TA-42,334; Pine State Knitwear Co., Inc., Mt. Airy, NC: October 21, 2001.

TA-W-42,275; The ESAB Group, Niagara Falls, NY: October 2, 2001.

TA-W-42,233; M.J. Soffe Company, Wallace, NC: September 25, 2001.

TA-W-42,171; Foothills Apparel, Inc., Albany, KY: September 10, 2001.

TA-W-41,558; BASF Corp., Nutritional Manufacturing Div., Wilmington, NC: May 2, 2001.

TA-W-41,503; Kimble Glass Co., Vineland, NJ: April 8, 2001.

TA-W-41,493; Sun-Chemical, Inc. (GPI), Linden, NJ: April 16, 2001.

TA-W-41,963; Peterson Spring Corp., Three Rivers, MI: “All workers engaged in employment related to the production of compression springs who became totally or partially separated on or after August 7, 2001. “All workers engaged in the production of coiled retaining rings are denied eligibility to apply for adjustment assistance under Section 223 of the trade Act of 1974.”

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the months of November, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07658; Atlas Copco Wagner, Inc., Portland, OR.

NAFTA-TAA-06222; Dean Specialty Foods Group, Atkins, AR.

NAFTA-TAA-06306; Signa Molds, Price Pfister, Black & Decker, Pacoima, CA.

NAFTA-TAA-06404; Clark Alabama, Inc., Pell City, AL.

NAFTA-TAA-06507; Autoline Industries, Inc., Argyle Industries, Inc. Div., Argyle, WI.

NAFTA-TAA-06527; Autoline Industries, Inc., Autoline East Div., MeElhatten, PA.

NAFTA-TAA-06330; Johnson Controls, Automotive Systems Group-Interiors, Lapeer, MI.

NAFTA-TAA-06395; Switching Systems International, Anaheim, CA.

NAFTA-TAA-07606; M.J. Soffe Company, Wallace, NC.

NAFTA-TAA-07625; Pollak, Actuator Products Div., Boston, MA.

NAFTA-TAA-07638; Haemer-Wright tool and Die, Inc., Saegertown, PA.

NAFTA-TAA-06484; CommScope, Inc., of North Carolina, Catawba. Facility, Catawba, NC, A; Claremont Facility, Claremont, NC, B; Cable Technology Center, Newton, NC, C; Corporate Office, Hickory, NC, D; Denver Sales Office, Greenwood Village, CO.

NAFTA-TAA-07649; Graphic Sportswear Unlimited, Inc., Austin, TX.

The investigation revealed that the criteria for eligibility have not been met for the reasons specified.

The investigation revealed that workers of the subject firm did not produce an article within the meaning of section 250(a) of the Trade Act, as amended.

NAFTA-TAA-06495 & A; Hasler, Inc., Meter Repair Department (MRD), Shelton, CT and Canadian Support Services (CSS), Shelton, CT.

The investigation revealed that criteria (1) has not been met. A significant number or proportion of the workers in such workers' firm or an appropriate subdivision (including workers in any agricultural firm or appropriate subdivision thereof) did not become totally or partially separated from employment as required for certification.

NAFTA-TAA-06750; State of Alaska Commercial Fisheries Entry Commission Permit #56712U, Egegik, AK.

NAFTA-TAA-06724; State of Alaska Commercial Fisheries Entry Commission Permit #55585P, Dillingham, AK.

NAFTA-TAA-06681; State of Alaska Commercial Fisheries Entry Commission Permit #SO3T62112B, Dillingham, AK.

NAFTA-TAA-06661; State of Alaska Commercial Fisheries Entry Commission Permit #61386Z, Dillingham, AK.

NAFTA-TAA-06626; State of Alaska Commercial Fisheries Entry Commission Permit #58548X, Dillingham, AK.

NAFTA-TAA-06540; State of Alaska Commercial Fisheries Entry Commission Permit #SO3T56859Q, Dillingham, AK.

NAFTA-TAA-06541; Permit #58590X, Aleknagik, AK.

NAFTA-TAA-06543; State of Alaska Commercial Fisheries Entry Commission Permit #65605V, Aleknagik, AK.

NAFTA-TAA-06546; State of Alaska Commercial Fisheries Entry Commission Permit #60381N, Aleknagik, AK.

NAFTA-TAA-06549; State of Alaska Commercial Fisheries Entry Commission Permit #55917A, Aleknagik, AK.

NAFTA-TAA-06550; Permit #68828I, Aleknagik, AK.

NAFTA-TAA-06552; Permit #57749J, Aleknagik, AK.

NAFTA-TAA-06555; State of Alaska Commercial Fisheries Entry Commission Permit #61932R, Aleknagik, AK.

NAFTA-TAA-06562; State of Alaska Commercial Fisheries Entry Commission Permit #57738S, Dillingham, AK.

NAFTA-TAA-06625; State of Alaska Commercial Fisheries Entry Commission Permit #57496U, Dillingham, AK.

NAFTA-TAA-06646; State of Alaska Commercial Fisheries Entry Commission Permit #64700S, Dillingham, AK.

NAFTA-TAA-06672; State of Alaska Commercial Fisheries Entry Commission Permit #61339M, Dillingham, AK.

NAFTA-TAA-06709; State of Alaska Commercial Fisheries Entry Commission Permit #61671P, Dillingham, AK.

NAFTA-TAA-06720; State of Alaska Commercial Fisheries Entry Commission Permit #57857G, Dillingham, AK.

NAFTA-TAA-06726; State of Alaska Commercial Fisheries Entry Commission Permit #59682R, Dillingham, AK.

NAFTA-TAA-06673; State of Alaska Commercial Fisheries Entry Commission Permit #55600F, Dillingham, AK.

NAFTA-TAA-06783; State of Alaska Commercial Fisheries Entry Commission Permit #58843M, King Salmon, AK.

NAFTA-TAA-06791; State of Alaska Commercial Fisheries Entry Commission Permit #58446F, King Salmon, AK.

NAFTA-TAA-06828; State of Alaska Commercial Fisheries Entry Commission Permit #59510O, Manokotak, AK.

NAFTA-TAA-06874; State of Alaska Commercial Fisheries Entry Commission, Permit #57536Q, Naknek, AK.

NAFTA-TAA-06880; State of Alaska Commercial Fisheries Entry Commission, Permit #59239P. Naknek, AK.

NAFTA-TAA-06883; State of Alaska Commercial Fisheries Entry Commission, Permit #58312I, Naknek, AK.

NAFTA-TAA-06914; State of Alaska Commercial Fisheries Entry Commission Permit #56941N, New Stuyahok, AK.

NAFTA-TAA-06941; State of Alaska Commercial Fisheries Entry Commission Permit #50106V, New Stuyahok, AK.

NAFTA-TAA-06946; State of Alaska Commercial Fisheries Entry Commission Permit #58952X, Newhalen, AK.

NAFTA-TAA-06984; State of Alaska Commercial Fisheries Entries Commission Permit #56961J, South Naknek, AK.

NAFTA-TAA-07016; State of Alaska Commercial Fisheries, Entry Commission Permit #57321O, Togiak, AK.

NAFTA-TAA-07021; State of Alaska Commercial Fisheries Entry Commission Permit #58106M, Togiak, AK.

NAFTA-TAA-07051; State of Alaska Commercial Fisheries Entry Commission Permit #57660O, Togiak, AK.

NAFTA-TAA-07051; State of Alaska Commercial Fisheries Entry Commission Permit #60568H, Togiak, AK.

NAFTA-TAA-07060; State of Alaska Commercial Fisheries Entry Commission Permit #58898N, Togiak, AK.

NAFTA-TAA-07068; State of Alaska Commercial Fisheries Entry Commission Permit #66920F, Togiak, AK.

NAFTA-TAA-07070; State of Alaska Commercial Fisheries Entry Commission, Permit #57329E, Togiak, AK.

NAFTA-TAA-07085; State of Alaska Commercial Fisheries Entry Commission Permit #64752U, Dillingham, AK.

NAFTA-TAA-07091; State of Alaska Commercial Fisheries Entry Commission Permit #59461O, Aleknagik, AK.

NAFTA-TAA-07135; State of Alaska Commercial Fisheries Entry Commission Permit #61851O, Dillingham, AK.

NAFTA-TAA-07153; State of Alaska Commercial Fisheries Entry Commission Permit #64872Z, Dillingham, AK.

NAFTA-TAA-07170; State of Alaska Commercial Fisheries Entry Commission Permit #59044L, Dillingham, AK.

NAFTA-TAA-07173; State of Alaska Commercial Fisheries Entry Commission Permit #64971P, Dillingham, AK.

NAFTA-TAA-07352; State of Alaska Commercial Fisheries Entry Commission Permit #SO4T59919I, Naknek, AK.

NAFTA-TAA-07353; State of Alaska Commercial Fisheries Entry Commission Permit #SO4T60518U, Naknek, AK.

NAFTA-TAA-07362; State of Alaska Commercial Fisheries Entry Commission Permit #SO4T64955OD, Naknek, AK.

NAFTA-TAA-07365; State of Alaska Commercial Fisheries Entry Commission Permit #60094O, Naknek, AK.

NAFTA-TAA-07368; State of Alaska Commercial Fisheries Entry Commission Permit #59358F, Naknek, AK.

NAFTA-TAA-07379; State of Alaska Commercial Fisheries Entry Commission Permit #SO4T59928N, Naknek, AK.

NAFTA-TAA-07400; State of Alaska Commercial Fisheries Entry Commission Permit #60851P, Naknek, AK.

NAFTA-TAA-07435; State of Alaska Commercial Fisheries Entry Commission Permit #59857G, South Naknek, AK.

NAFTA-TAA-07436; State of Alaska Commercial Fisheries Entry Commission Permit #59927V, South Naknek, AK.

NAFTA-TAA-07438; State of Alaska Commercial Fisheries Entry Commission Permit #60290M, South Naknek, AK.

NAFTA-TAA-07441; State of Alaska Commercial Fisheries Entry Commission Permit #57510S, Naknek, AK.

NAFTA-TAA-07457; State of Alaska Commercial Fisheries Entry Commission Permit #60431K, South Naknek, AK.

NAFTA-TAA-07459; State of Alaska Commercial Fisheries Entry Commission Permit #59938L, South Naknek, AK.

NAFTA-TAA-07460; State of Alaska Commercial Fisheries, Entry Commission Permit #65617G, South Naknek, AK.

NAFTA-TAA-07461; State of Alaska Commercial Fisheries Entry Commission Permit #65649J, South Naknek, AK.

NAFTA-TAA-07486; State of Alaska Commercial Fisheries Entry Commission Permit #65849B, Togiak, AK.

NAFTA-TAA-07493; State of Alaska Commercial Fisheries Entry Commission Permit #60432C, Togiak, AK.

NAFTA-TAA-07534; State of Alaska Commercial Fisheries Entry Commission Permit #55895Q, Togiak, AK.

NAFTA-TAA-07508; State of Alaska Commercial Fisheries Entry Commission Permit #60519M, Togiak, AK.

NAFTA-TAA-07522; State of Alaska Commercial Fisheries Entry Commission Permit #64744H, Togiak, AK.

NAFTA-TAA-07530; State of Alaska Commercial Fisheries Entry Commission Permit #59948J, Togiak, AK.

NAFTA-TAA-07532; State of Alaska Commercial Fisheries Entry Commission Permit #60958V, Togiak, AK.

NAFTA-TAA-07534; State of Alaska Commercial Fisheries Entry Commission Permit #55895Q, Togiak, AK.

NAFTA-TAA-07539; State of Alaska Commercial Fisheries Entry Commission Permit #64763K, Togiak, AK.

NAFTA-TAA-07540; State of Alaska Commercial Fisheries Entry Commission Permit #65091H, Togiak, AK.

NAFTA-TAA-07543; State of Alaska Commercial Fisheries Entry Commission Permit #66274F, Twin Hills, AK.

NAFTA-TAA-06869; State of Alaska Commercial Fisheries Entry Commission Permit #SO4T61970Z, Naknek, AK.

NAFTA-TAA-06899; State of Alaska Commercial Fisheries Entry Commission Permit #63850R, Naknek, AK.

NAFTA-TAA-06903; State of Alaska Commercial Fisheries Entry Commission Permit #61951V, Naknek, AK.

NAFTA-TAA-06958; State of Alaska Commercial Fisheries Entry Commission Permit #56815GT, Dillingham, AK.

NAFTA-TAA-06969; State of Alaska Commercial Fisheries Entry Commission Permit #58130B, Port Heiden, AK.

NAFTA-TAA-06971; State of Alaska Commercial Fisheries Entry Commission Permit #58536P, Port Heiden, AK.

NAFTA-TAA-06975; State of Alaska Commercial Fisheries Entry Commission Permit #58130BT, Port Heiden, AK.

NAFTA-TAA-06976; State of Alaska Commercial Fisheries Entry Commission Permit #58396K, Port Heiden, AK.

NAFTA-TAA-07200; State of Alaska Commercial Fisheries Entry Commission Permit #64416W, Dillingham, AK.

NAFTA-TAA-07203; State of Alaska Commercial Fisheries Entry Commission Permit #59261W, Dillingham, AK.

NAFTA-TAA-07207; State of Alaska Commercial Fisheries Entry Commission Permit #60660E, Dillingham, AK.

NAFTA-TAA-07242; State of Alaska Commercial Fisheries Entry Commission Permit #57388A, King Salmon, AK.

NAFTA-TAA-07246; State of Alaska Commercial Fisheries Entry Commission Permit #65619P, King Salmon, AK.

NAFTA-TAA-07249; State of Alaska Commercial Fisheries Entry Commission Permit #SO4T60024F, King Salmon, AK.

NAFTA-TAA-07250; State of Alaska Commercial Fisheries Entry Commission Permit #58844H, King Salmon, AK.

NAFTA-TAA-07274; State of Alaska Commercial Fisheries Entry Commission Permit #56856Q, Levelock, AK.

NAFTA-TAA-07279; State of Alaska Commercial Fisheries Entry Commission Permit #60517C, Manokotak, AK.

NAFTA-TAA-07321; State of Alaska Commercial Fisheries Entry Commission Permit #62119A, Manokotak, AK.

NAFTA-TAA-07327; State of Alaska Commercial Fisheries Entry Commission Permit #SO4T59937S, Naknek, AK.

NAFTA-TAA-07339; State of Alaska Commercial Fisheries Entry Commission Permit #SO4T65135, Naknek, AK.

NAFTA-TAA-07341; State of Alaska Commercial Fisheries Entry Commission Permit #60440P, Naknek, AK.

NAFTA-TAA-07598; General Mills, Bakeries and Food Service, Hillsdale, MI.

The investigation revealed that criteria (2) has not been met. Sales or production, or both, did not decline during the relevant period as required for certification.

NAFTA-TAA-07282; State of Alaska Commercial Fisheries Entry Commission Permit #65919Q, Manokotak, AK.

Affirmative Determinations NAFTA-TAA

NAFTA-TAA-05527; Freudenburg-NOK, Bennsenville, IL: October 31, 2000.

NAFTA-TAA-06193; Kimble Glass Co., Vineland, NJ: May 9, 2001.

NAFTA-TAA-06581; State of Alaska Commercial Fisheries Entry Commission Permit #64799G, Dillingham, AK: September 5, 2001.

NAFTA-TAA-06634; Permit #59335F, Dillingham, AK: September 5, 2001.

NAFTA-TAA-06636; State of Alaska Commercial Fisheries Entry Permit #58354J, Dillingham, AK: September 5, 2001.

NAFTA-TAA-06653; State of Alaska Commercial Fisheries Entry Commission Permit #64659G, Dillingham, AK: September 5, 2001.

NAFTA-TAA-06679; Permit #613030, Dillingham, AK: September 5, 2001.

NAFTA-TAA-06686; Permit #57593B, Dillingham, AK: September 5, 2001.

NAFTA-TAA-06832; Permit #58553J, Manokotak, AK: September 5, 2001.

NAFTA-TAA-06838, Permit #58905O, Manokotak, AK: September 5, 2001.

NAFTA-TAA-06856; State of Alaska Commercial Fisheries Entry Commission Permit #63408I, Monokotak, AK: September 5, 2001.

NAFTA-TAA-06962; Permit #61905B, Port Alsworth, AK: September 5, 2001.

NAFTA-TAA-06978; State of Alaska Commercial Fisheries Entry Commission Permit #66896K, Portage Creek, AK: September 5, 2001.

NAFTA-TAA-06994; State of Alaska Commercial Fisheries Entry Commission Permit #55948L, South Naknek, AK: September 5, 2001.

NAFTA-TAA-07035; State of Alaska Commercial Fisheries Entry Commission Permit #57360N, Togiak, AK: September 5, 2001.

NAFTA-TAA-07082; State of Alaska Commercial Fisheries Entry Commission Permit #60547S, Ugashik, AK: September 5, 2001.

NAFTA-TAA-07147; Permit #59888Q, Dillingham, AK: September 5, 2001.

NAFTA-TAA-07171; Permit #66515L, Dillingham, AK: September 5, 2001.

NAFTA-TAA-07496; Permit #56260G, Naknek, AK: September 5, 2001.

NAFTA-TAA-07485; Permit #60019S, Togiak, AK: September 5, 2001.

NAFTA-TAA-07453; Permit #57389R, South Naknek, AK: September 5, 2001.

NAFTA-TAA-07553; Foothills Apparel, Inc., Albany, KY: September 10, 2001.

NAFTA-TAA-07648; Concise Fabricators, Inc., Tucson, AZ: October 29, 2001.

NAFTA-TAA-06464; Saturn Electronics and Engineering, Inc., Auburn Hills, MI: August 6, 2001.

NAFTA-TAA-07288; Permit #55655I, Manokotak, AK: September 5, 2001.

NAFTA-TAA-07343; Permit #59332F, Naknek, AK: September 5, 2001.

NAFTA-TAA-07306; Permit #58531G, Manokotak, AK: September 5, 2001.

NAFTA-TAA-07344; Permit #60565H, Naknek, AK: September 5, 2001.

NAFTA-TAA-07395; Permit #65134G, Naknek, AK: September 5, 2001.

NAFTA-TAA-07563; DJ Orthopedics, LLC, Vista, CA: September 16, 2001.

NAFTA-TAA-07569; Emerson Power Transmission, Rollway Bearing Corp., Liverpool, NY: September 4, 2001.

NAFTA-TAA-07591; Barth and Dreyfuss of California, Burbank, CA: June 27, 2001.

NAFTA-TAA-06454; Peterson Spring Corp., Three Rivers, MI: “All workers engaged in employment related to the production of compression spring who became totally or partially separated from employment on or after August 7, 2001 are eligible to apply for NAFTA-TAA under section 250 of the Trade Act of 1974.” “All workers of Peterson Spring Corp. engaged in employment related to the production of rings are denied eligibility to apply for NAFTA-TAA under section 250 of the Trade Act of 1974.”

NAFTA-TAA-07599; Waltec Forgings, Inc., Port Huron, MI: September 30, 2001.

I hereby certify that the aforementioned determinations were issued during the months of November, 2002. Copies of these determinations are available for inspection in Room C-5311, U.S. Department of Labor, 200 Constitution Avenue, NW., Washington, DC 20210 during normal business hours or will be mailed to persons who write to the above address.

Dated: November 25, 2002.
Edward A. Tomchick,
Director, Division of Trade Adjustment Assistance .

[FR Doc. 02-31064 Filed 12-6-02; 8:45 am]

BILLING CODE 4510-30-P